DEPARTMENT OF THE INTERIOR

Geological Survey

[GX17RB00FYXAA00]

Agency Information Collection: Comment Request

AGENCY: United States Geological Survey (USGS), Interior.

ACTION: Notice of a new information collection.

SUMMARY: We (U.S. Geological Survey) will ask the Office of Management and Budget (OMB) to approve the information collection (IC) described below. As required by the Paperwork Reduction Act of 1995 (PRA), and as a part of our continuing efforts to reduce paperwork and respondent burden, we invite the general public and other Federal agencies to take this opportunity to comment on this IC. As a Federal agency, we may not conduct or sponsor and you are not required to respond to, a collection of information unless it displays a currently valid OMB control number.

DATES: To ensure that your comments are considered, we must receive them on or before November 14, 2017.

ADDRESSES: You may submit comments on this information collection to the Information Collection Clearance Officer, U.S. Geological Survey, gs-info_collections@usgs.gov (email). Please reference `Information Collection 1028-New, Evaluating public values for water quality in the Susquehanna River in Pennsylvania' in all correspondence.

FOR FURTHER INFORMATION CONTACT: Rudy Schuster at U.S. Geological Survey, 2150 Centre Avenue, Bldg. C, Fort Collins, CO 80525 (mail), or at (970) 226-9165 (phone). You may also find information about this ICR at www.reginfo.gov.

SUPPLEMENTARY INFORMATION:

I. Abstract

The USGS Social and Economic Analysis Branch is investigating public values for changes in water quality within the Susquehanna River Basin located in Pennsylvania. The Susquehanna River, with its streams and tributaries, is the largest river system lying entirely within the United States that drains into the Atlantic Ocean. Water from the Susquehanna River is used for drinking, manufacturing, agriculture, and power generation, and also provides habitat for fish and opportunities for outdoor recreation. Stormwater runoff and excess nutrients and sediment have increased algae, decreased fish health, and have resulted in closed beaches due to bacteria. As a result of these and other events, water managers in the Susquehanna River Basin are reviewing private citizens' river uses, perceptions, and the economic value of improved water quality. USGS economists will conduct an economic survey of private households in Pennsylvania to help local decision makers achieve this review. These values will be estimated via a mail survey instrument. The primary goal of conducting this valuation study is to improve the way in which communities frame the choice regarding the allocation of scarce resources and to clarify the trade-offs between alternative outcomes. No such prior analysis has been conducted in the Susquehanna River Basin.

The information collection process will be conducted by scientists and staff in the Social and Economic Analysis Branch of the USGS, and partnering researchers in the Department of Agricultural and Resource Economics at Colorado State University. This information collection will be conducted through an online survey with an optional paper survey. Letters and postcards will be mailed to potential respondents to encourage participation in the survey. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

II. Data

OMB Control Number: 1028-New.

Form Number: NA.

Title: Evaluating public values for water quality in the Susquehanna River in Pennsylvania.

Type of Request: New collection.

Affected Public: Private Citizens.

Respondent's Obligation: None. Participation is voluntary.

Frequency of Collection: One time only.

Estimated Total Annual Responses: 2,500.

Estimated Time per Response: 2 minutes to review instructions, 13 minutes to complete survey.

Estimated Total Annual Burden Hours: 625 hours.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

IV. Authority

The authorities for this action are the Clean Water Act (33 U.S.C. 1251 et seq.) and the Safe Drinking Water Act (42 U.S.C. 300f et seq.).

Dated: May 3, 2017.
Sharon Taylor,
Fort Collins Science Center Director.

[FR Doc. 2017-19575 Filed 9-14-17; 8:45 am]

BILLING CODE 4338-11-P